DEPARTMENT OF LABOR

Employment and Training Administration

[TA-W-52,766]

American Suessen Corp., Charlotte, NC; Dismissal of Application for Reconsideration; Correction

This notice corrects the notice of dismissal of application for reconsideration applicable to TA-W-52,766 which was published in the Federal Register on December 29, 2003 (68 FR 74972) in FR Document 03-31859.

This revises the dismissal letter (date) on the last line in the first column on page 74972. On the last line, in the first column, the dismissal letter (date) should read December 2, 2003.

Signed at Washington, DC, this 25th day of June, 2004.
Timothy Sullivan,
Director, Division of Trade Adjustment Assistance.

[FR Doc. 04-14926 Filed 6-30-04; 8:45 am]

BILLING CODE 4510-30-P